DEPARTMENT OF LABOR

Employment and Training Administration

[TA-W-75,151]

Navistar Truck Development and Technology Center, a Subsidiary of Navistar International Corporation Truck Division, Fort Wayne, IN; Notice of Affirmative Determination Regarding Application for Reconsideration

By application dated May 31, 2011, a petitioner requested administrative reconsideration of the negative determination regarding workers' eligibility to apply for Trade Adjustment Assistance (TAA) applicable to workers and former workers of Navistar Truck Development and Technology Center, a Subsidiary of Navistar International Corporation, Truck Division, Fort Wayne, Indiana (subject firm). The negative determination was issued on April 13, 2011. The Department's Notice of Determination was published in the Federal Register on May 2, 2011 (76 FR 24536). The workers are engaged in activities related to the supply of truck body engineering and design services.

The negative determination was based on the findings that, with respect to Section 222(a) of the Act, Criterion II has not been met because imports of engineering and design services have not increased and there has not been a shift of engineering and design services by the workers' firm to a foreign country. Further, Criterion III has not been met because the worker separations are not attributable to increased imports or a shift of services to a foreign country. Rather, the investigation confirmed that the worker separations are attributable to a consolidation and shift of engineering and design services to another facility located within the United States.

With respect to Section 222(c) of the Act, the investigation revealed that Criterion (2) has not been met because the firm is not a Supplier or Downstream Producer to a firm with a TAA-certified worker group.

In the request for reconsideration, the petitioner stated that “Navistar has not only increased the amount of work that they outsource, they have increased the number of countries that they outsource that work to.” The petitioner referenced multiple attachments and stated that the subject firm has joint ventures with China, India, Brazil, and Europe. The petitioner also stated that “This chart shows Fort Wayne employees doing export work under the heading of Mexico, Brazil, and Export Engineering * * *. The work is now clearly outsourced to India, Brazil, and China according to the organizational chart.”

The petitioner also referenced an attachment and stated “two job postings for Chief Engineers to work in China to oversee Engineering and Design work.” The petitioner also referenced an attachment and stated “shows new work being sent to a Company in Romania * * * shows the name of the on-site coordinator, whose primary responsibility is to prepare and send work via the internet for his counterparts in Romania to perform * * * shows a listing of work that has been transferred to Romania for completion.” The petitioner also referenced an attachment and stated “shows the increasing amount of work being sent to Brazil.”

The petitioner also referenced an attachment and stated “shows an email with an employee break down of the increase in the amount of work being sent to India from a single department. This department sent out 4 jobs to India in 2010, and has already sent nine jobs to India in the first four months of 2011.” The petitioner also referenced an attachment and stated “details how IT Services group was partially replaced by a call center/support staff in India.”

The petitioner also referenced an attachment and stated “Navistar answered the Community's questions about their intentions for the property they were acquiring for the move. * * * This is a headcount reduction across the nation, made possible by the Global Outsourcing. * * * ” The petitioner also referenced an attachment and stated “Earlier Exhibits detailed that these countries are doing their own engineering and development work, they not simply ‘points of sale.’. ”

The Department has carefully reviewed the request for reconsideration and the existing record, and has determined that the Department will conduct further investigation to determine if the petitioning workers meet the eligibility requirements of the Trade Act of 1974, as amended.

Conclusion

After careful review of the application, I conclude that the claim is of sufficient weight to justify reconsideration of the U.S. Department of Labor's prior decision. The application is, therefore, granted.

Signed at Washington, DC, this 15th day of September, 2011.
Del Min Amy Chen,
Certifying Officer, Office of Trade Adjustment Assistance.

[FR Doc. 2011-24478 Filed 9-22-11; 8:45 am]

BILLING CODE 4510-FN-P